DEPARTMENT OF HEALTH AND HUMAN SERVICES

Centers for Disease Control and Prevention

[60Day-01-62]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: HIV Prevention Capacity-Building Assistance Information Collection—Reporting Forms—To be used from 2001 to 2005—New—National Center for HIV, STD, and TB Prevention (NCHSTP), Centers for Disease Control and Prevention (CDC). The purpose of this request is to obtain OMB clearance to collect information to monitor the capacity-building activities and training of capacity-building assistance (CBA) providers funded by the Centers for Disease Control and Prevention NCHSTP to support community-based organizations (CBOs) to deliver HIV prevention services.

In FY 1999, the Department of Health and Human Services announced a special initiative to reduce the disproportionate impact of HIV/AIDS on African Americans and other communities of color. The CDC announced the availability of funds for cooperative agreements for HIV prevention CBA to develop and implement regionally structured, integrated capacity-building systems. Thirty CBA provider organizations were funded to implement this strategy. These grantees provide HIV prevention CBA services to CBOs serving racial/ethnic minority populations at risk for HIV. The CBA program has expanded from $9 million to approximately $25 million in FY 2001.

CDC is responsible for monitoring and evaluating HIV prevention activities conducted under the CBA cooperative agreements. Enhancing and assuring quality programming requires that CDC have current information regarding the progress of CBA activities and services supported through the cooperative agreements. Therefore, forms such as the CBA Notification Form, CBA Completion Form, and CBA Progress Report are considered critical components of the monitoring and evaluation process. Because this program encompasses 30 CBA provider organizations, there is a need for a standardized system for reporting individual instances of CBA delivered by all CBA provider grantees.

As a steward of government funds, CDC needs information to monitor CBA and accurately document CBA activities that occur among CBA provider grantees. The information collected from the CBA Notification and CBA Completion forms, and CBA Progress Report will allow CDC to further identify problems and address technical assistance needs of CBOs in a timely fashion and subsequently improve the effectiveness of CBA program activities and progress toward national goals of HIV prevention. The forms would also assist CDC, in the aggregate, by discerning and refining national goals and objectives in the prevention of HIV. This information collection process will be a potentially valuable management tool for grantees to routinely examine CBA program performance by assessing strengths and weaknesses with the CBA program and national objectives.

To effectively track and monitor all requests for CBA assistance, CBA providers will be required to complete three reporting forms. The first is the CBA Notification Form (form A) that will require CBA providers to submit after each contact with a non-CDC funded CBO or HIV prevention stakeholder for CBA services. The purpose of this form is to track all requests for services from non-CDC funded CBOs and stakeholders. CBA requests from these CBOs and stakeholders are received by CBA providers on an on-going basis. CBA providers will be required to submit a CBA Completion Form (form B) following each episode of CBA service delivered to all CBOs and stakeholders. The purpose of this form is to provide feedback and follow-up information to CDC Project Officers on the types and quality of CBA services delivered to all CBOs by CBA providers. CBA Requests from these CBOs are received by CBA providers on an on-going basis. Information collection will be on-going throughout the duration of the cooperative agreements. CBA providers will be required to submit a third form, CBA Progress Reports (form C) on a quarterly basis to CDC. The purpose of this report is to describe the HIV prevention activities conducted during the last quarter. The CBA Progress Report will include information on the program successes and barriers, collaborative and cooperative activities with other organizations, and plans for future activities.

It is estimated that Form A (CBA Notification Form) will require 15 minutes of preparation by the respondent, Form B (CBA Completion Form) will require 30 minutes of preparation by the respondent, and Form C (CBA Progress Report) will require 2 hours of preparation by the respondent. In aggregate, report preparation requires approximately 990 burden hours by each respondent. There are no costs to respondents.

Respondents | Number of respondents | Number of responses/respondents | Average burden/response (in hours) | Response burden in hours
Form A: CBA Notification | 30 | 50 | 15/60 | 375
Form B: CBA Completion | 30 | 25 | 30/60 | 375
Form C: CBA Progress Report | 30 | 4 | 2 | 240
Total |  |  |  | 990

Dated: September 17, 2001.
Nancy E. Cheal,
Acting Associate Director for Policy, Planning and Evaluation, Centers for Disease Control and Prevention.

[FR Doc. 01-24021 Filed 9-25-01; 8:45 am]

BILLING CODE 4163-18-P